DEPARTMENT OF ENERGY

Federal Energy Regulatory Commission

Notice of Commission Staff Attendance at Midwest ISO Meetings

March 5, 2007.

The Federal Energy Regulatory Commission hereby gives notice that members of the Commission and Commission staff may attend the following Midwest ISO meetings:

• Advisory Committee (10 a.m.-4 p.m., EST)

○ March 14

○ May 16

○ June 20

○ July 18

○ August 15

○ September 19

○ October 17

○ November 14

○ December 12

• Board of Directors (8:30 a.m.-10 a.m., EST)

○ March 15

○ April 19

○ June 21

○ August 16

○ October 18

○ December 13

• Board of Directors Markets Committee (8 a.m.-10 a.m., EST)

○ March 14

○ May 16

○ June 20

○ July 18

○ August 15

○ September 19

○ October 17

○ November 14

○ December 12

• Midwest ISO Informational Meetings (12 noon-3 p.m., EST)

○ April 9

○ May 7

○ June 4

○ July 9

○ August 6

○ September 10

○ October 8

○ November 5

○ December 3

All of the meetings above will be held at: Midwest ISO Headquarters, 701 City Center Drive and, 630 West Carmel Drive, Carmel, IN 46032.

• Third Annual Midwest ISO Stakeholders' Meeting (10 a.m.-5 p.m., EST)

○ April 18, University Place Hotel & Conference Center, 850 West Michigan Street, Indianapolis, IN 46202.

Further information may be found at http://www.midwestiso.org.

The discussions at each of the meetings described above may address matters at issue in the following proceedings:

Docket No. ER02-2595, et al., Midwest Independent Transmission System Operator, Inc.

Docket No. ER04-375, Midwest Independent Transmission System Operator, Inc., et al.

Docket No. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-752, Midwest Independent Transmission System Operator, Inc. and PJM Interconnection, L.L.C.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket No. ER06-18, Midwest Independent Transmission System Operator, Inc.

Docket No. ER06-27, Midwest Independent Transmission System Operator, Inc., et al.

Docket Nos. EC06-4 and ER06-20, LGE Energy LLC, et al.

Docket No. ER06-360, et al., Midwest Independent Transmission System Operator, Inc., et al.

Docket No. ER06-356, Midwest Independent Transmission System Operator, Inc.

Docket No. ER06-532, Midwest Independent Transmission System Operator, Inc.

Docket No. EL06-31, Midwest Independent Transmission System Operator, Inc., et al.

Docket No. EL06-49, Midwest Independent Transmission System Operator, Inc., et al.

Docket No. ER06-56, Midwest Independent Transmission System Operator, Inc.

Docket No. ER07-478, Midwest Independent Transmission System Operator, Inc.

Docket No. ER07-550, Midwest Independent Transmission System Operator, Inc.

These meetings are open to the public.

For more information, contact Patrick Clarey, Office of Energy Markets and Reliability, Federal Energy Regulatory Commission at (317) 249-5937 or patrick.clarey@ferc.gov, or Christopher Miller, Office of Energy Markets and Reliability, Federal Energy Regulatory Commission at (317) 249-5936 or christopher.miller@ferc.gov.

Philis J. Posey,
Acting Secretary.

[FR Doc. E7-4341 Filed 3-9-07; 8:45 am]

BILLING CODE 6717-01-P